FEDERAL COMMUNICATIONS COMMISSION

47 CFR Part 73

[DA 06-1051; MB Docket No. 05-108; RM-11178]

Radio Broadcasting Services; Andover and Haverhill, MA

AGENCY: Federal Communications Commission.

ACTION: Final rule.

SUMMARY: The Audio Division, at the request of Beanpot Broadcasting Corp., licensee of Station WXRV(FM), Channel 223B, Haverhill, Massachusetts, deletes Channel 223B at Haverhill, Massachusetts, from the FM Table of Allotments, allots Channel 223B at Andover, Massachusetts, as the community's first local FM service, and modifies the license of Station WXRV(FM) to specify operation on Channel 223B at Andover. Channel 223B can be allotted to Andover, Massachusetts, in compliance with the Commission's minimum distance separation requirements at WXRV(FM)'s existing transmitter site. The coordinates for Channel 223B at Andover, Massachusetts, are 42-46-23 North Latitude and 71-06-01 West Longitude, with a site restriction of 13.1 km (8.1 miles) north of Andover.

DATES: Effective July 3, 2006.

FOR FURTHER INFORMATION CONTACT: Deborah Dupont, Media Bureau, (202) 418-2180.

SUPPLEMENTARY INFORMATION: This is a synopsis of the Commission's Report and Order, MB Docket No. 05-108, adopted May 17, 2006, and released May 19, 2006. The full text of this Commission decision is available for inspection and copying during normal business hours in the FCC Reference Information Center, Portals II, 445 12th Street, SW, Room CY-A257, Washington, DC 20554. The complete text of this decision also may be purchased from the Commission's duplicating contractor, Best Copy and Printing, Inc., 445 12th Street, SW, Room CY-B402, Washington, DC, 20554, (800) 378-3160, or via the company's Web site, http://www.bcpiweb.com. The Commission will send a copy of this Report and Order in a report to be sent to Congress and the Government Accountability Office pursuant to the Congressional Review Act, see 5 U.S.C. 801(a)(1)(A).

List of Subjects in 47 CFR part 73

Radio, Radio broadcasting.

For the reasons discussed in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Massachusetts is amended by adding Andover, Channel 223B, and by removing Haverhill, Channel 223B.

Federal Communications Commission.
John A. Karousos,
Assistant Chief, Audio Division, Media Bureau.

[FR Doc. E6-8846 Filed 6-6-06; 8:45 am]

BILLING CODE 6712-01-P